DEPARTMENT OF COMMERCE

National Oceanic and Atmospheric Administration

50 CFR Part 648

[I.D. 070102F]

New England Fishery Management Council; Public Meeting

AGENCY: National Marine Fisheries Service (NMFS), National Oceanic and Atmospheric Administration (NOAA), Commerce.

ACTION: Public meeting notification.

SUMMARY: The New England Fishery Management Council (Council) will hold a 3-day Council meeting on July 23 through 25, 2002, to consider actions affecting New England fisheries in the U.S. exclusive economic zone (EEZ).

DATES: The meeting will be held on Tuesday, Wednesday, and Thursday July 23, 24, and 25, 2002. The meeting will begin at 8:30 a.m. on Tuesday and at 8 a.m. on Wednesday and Thursday.

ADDRESSES: The meeting will be held at the DoubleTree Hotel, 1230 Congress Street, Portland, ME 04102; telephone (207) 774-5611. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, July 23, 2002

Following introductions, the Council will consider approval of initial action on Framework Adjustment 2 to the Monkfish Fishery Management Plan (FMP). The action would implement the measures contained in NMFS’s spring 2002 monkfish emergency rule, including a revision to the overfishing reference point that defines the maximum fishing mortality rate threshold, and allows for calculations that would adjust the days at sea (DAS) allocations and/or trip limits to achieve the monkfish catch targets in Fishing Year 2003. The Council also will consider and approve management alternatives for inclusion in Amendment 2 to the FMP, for purposes of analysis in the associated Draft Supplemental Environmental Impact Statement (DSEIS). Issues to be considered may include, but are not limited to: revisions to the overfishing definition reference points; adjustments to the DAS program; a management program for a deepwater directed monkfish fishery; individual vessel quotas or DAS allocations; permit qualification criteria; and management measures for vessels fishing for monkfish only south of 38 degrees N. Following a noontime break, the Scallop Committee will recommend approval of initial action on the annual framework adjustment to the Sea Scallop FMP (Framework Adjustment 15). The Council will identify management alternatives for inclusion in the framework. These may include, but are not limited to, an adjustment to the 2003 scallop vessel DAS allocations and continued controls on scallop harvests in the Virginia Beach and Hudson Canyon areas of the Mid-Atlantic. The Council also is scheduled to vote on final approval of the herring specifications to be recommended to NMFS for 2003. This will occur following a review of the 2001 Herring Stock Assessment and Fishery Evaluation (SAFE) Report and a presentation on the recommendations of the Herring Plan Development Team, and the Herring Oversight Committee and its Advisory Panel concerning the specification of optimum yield, levels of domestic annual harvest and processing, including at-sea processing, border transfer, and the amount of herring that may be made available in 2003 to foreign joint venture processing (JVP and IWP) and foreign directed fishing (TALFF), if any. In addition, NMFS will consult with the Council concerning industry requests for an inseason increase to the 2002 specifications for JVP and IWP. The Skate Committee will review and seek Council approval of the revised sections of the Draft Skate FMP/Environmental Impacts Statement being prepared for resubmission to NMFS. Following this agenda item, the Council will provide a brief opportunity for comments from the public on issues that are not otherwise listed on the agenda, but relevant to Council business. The day will conclude with reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission.

Wednesday, July 24 and Thursday, July 25 2002

The Council meeting will re-convene on Wednesday with a presentation from NMFS staff on the Gear Effects Workshop held in October, 2001 and continue with Council consideration of the Habitat Committee’s recommendations on measures to minimize the impacts of groundfish fishing on Essential Fish Habitat. The remainder of the day and the entire next day will be devoted to consideration of issues associated with the development of Amendment 13 to the Northeast Multispecies FMP. The Council will select alternatives for inclusion in a Draft SEIS. The discussion will include incorporation of U.S./Canada Sharing Agreement into Amendment 13.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

The New England Council will consider public comments at a minimum of two Council meetings before making recommendations to the National Marine Fisheries Service Regional Administrator on certain framework adjustments to a fishery management plan. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: July 3, 2002.
Virginia M. Fay,
Acting Director, Office of Sustainable Fisheries, National Marine Fisheries Service.

[FR Doc. 02-17156 Filed 7-8-02; 8:45 am]

BILLING CODE 3510-22-S